FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 26, 2012.

A. Federal Reserve Bank of Atlanta (Chapelle Davis, Assistant Vice President) 1000 Peachtree Street NE., Atlanta, Georgia 30309:

1. Bixby Bridge Financial, LP and David D. Colburn, as general partner, both of Northbrook, Illinois; to collectively acquire voting shares of PCNB Bancshares, Inc., and thereby indirectly acquire voting shares of Peoples Community Bank, both in Bremen, Georgia.

B. Federal Reserve Bank of Dallas (E. Ann Worthy, Vice President) 2200 North Pearl Street, Dallas, Texas 75201-2272:

1. Mary Ann Haywood, Bayton, Texas; to become Trustee of the Mary Louise Greak Estate, and acquire control of First Liberty National Bancshares, Inc., and thereby indirectly acquire control of First Liberty National Bank, both in Liberty, Texas.

Board of Governors of the Federal Reserve System, March 6, 2012.
Robert deV. Frierson,
Deputy Secretary of the Board.

[FR Doc. 2012-5756 Filed 3-8-12; 8:45 am]

BILLING CODE 6210-01-P